DEPARTMENT OF AGRICULTURE

Forest Service

Payette National Forest; Idaho; Granite Meadows Project

AGENCY: Forest Service, USDA.

ACTION: Notice of intent to prepare an environmental impact statement.

SUMMARY: The Payette National Forest will prepare an environmental impact statement (EIS) to document the potential effects of the Granite Meadows Project. The Granite Meadows Project is located north of New Meadows, Idaho and north and west of McCall, Idaho on the Boise Meridian, within Adams, Valley and Idaho Counties. The analysis will evaluate and disclose the effects of implementing treatments on the National Forest to meet the purpose and need for the project. Proposed treatments include timber harvest, thinning, prescribed fire, road treatments and road decommissioning, watershed improvement and restoration treatments, and recreation improvements. Coordination with existing permittees on grazing schedules would also be included to meet the purpose and need related to fuels reduction.

DATES: Comments concerning the scope of the analysis must be received by December 17, 2018. The draft EIS is expected in late July 2019, and the final EIS is expected in December 2019.

ADDRESSES: Send written comments to: Keith Lannom, Forest Supervisor, 500 N Mission Street, Building 2, McCall, Idaho 83638. Comments may also be sent via facsimile to 208-634-0744. Comments may also be submitted through the Granite Meadows Project web page at http://www.fs.usda.gov/project/?project=54029. To submit comments using the web form select “Comment/Object on Project” under “Get Connected” on the right panel of the project's web page.

FOR FURTHER INFORMATION CONTACT: Erin Phelps, New Meadows District Ranger, 208-347-0300, ephelps@fs.fed.us. Individuals who use telecommunication devices for the deaf (TDD) may call the Federal Information Relay Service (FIRS) at 1-800-877-8339 between 8 a.m. and 8 p.m., Eastern Time, Monday through Friday. Additional project information is available on the project page of the Payette National Forest website at: http://www.fs.usda.gov/project/?project=54029.

SUPPLEMENTARY INFORMATION: The Granite Meadows Project area totals approximately 83,000 acres, and includes approximately 70,000 acres of National Forest System (NFS) lands within the New Meadows and McCall Ranger Districts on the Payette National Forest. Additionally, the project area includes approximately 7,000 acres of state land and 6,000 acres of private land, where proposed treatments would be covered under the Wyden Authority (Wyden Amendment, Section 323(A) of the Department of Interior and Related Agencies Appropriations Act, 1999 as included in Pub. L. 105-277, Div. A, Section 101(e) as amended by Pub. L. 111-11, Section 3001). Actions proposed for use under the Wyden Authority would meet the intent and requirements of state and federal laws for actions on private and/or state lands. The project is located in the Hard Creek, Hartsell Creek-North Fork Payette River, Elk Creek-Little Salmon River, Lower Meadows Valley-Little Salmon River, Round Valley Creek-Little Salmon River, Sixmile Creek-Little Salmon River, Box Creek-North Fork Payette River, Fisher Creek, and Payette Lake subwatersheds with the Little Salmon and North Fork of the Payette subbasins.

Purpose and Need for Action

The Granite Meadows project is a landscape-scale effort to improve conditions across multiple resource areas. The need for the project is based on the difference between the existing and desired conditions. The desired conditions for this project are based upon the Payette Forest Plan (USDA Forest Service 2003), and the Watershed Condition Framework (USDA Forest Service 2011).

There is a need to increase the diversity and resilience of the landscape with an emphasis on promoting early seral and fire resistent species (e.g., ponderosa pine and western larch), and improving watershed function and integrity. There is also a need to reduce the threat of unnaturally high wildfire intensity, especially in areas adjacent to communities. Additionally, there is a need to address the potential for user conflict and improve forest user safety, and effectively manage areas experiencing detrimental impacts from dispersed or unauthorized recreation. There is also a need for economic stimulation for the communities adjacent to and within the project area.

The purpose of the Granite Meadows Project is to:

A. Move vegetation toward desired conditions defined in the Forest Plan with an emphasis on improving wildlife habitat; reducing the risk of uncharacteristic and undesirable wildland fire; returning fire to the ecosystem; promoting the development of large tree forest structures mixed with a mosaic of size classes; improving growth, maintaining and promoting seral species composition (e.g., quaking aspen, whitebark pine, western larch, ponderosa pine, and Douglas-fir), and increasing resiliency to insects, disease, and fire.

B. Support the development of fire-adapted rural communities.

C. Provide for a safe, sustainable and efficient NFS transportation network for administration, utilization, and protection of NFS lands, and reduce road-related negative effects to resources.

D. Move subwatersheds within the project area toward the desired conditions for soil, water, riparian, and aquatic resources.

E. Implement site-specific streambank and wetland restoration activities where stream channels, wetlands, or riparian areas are in a degraded condition.

F. Manage recreation use by improving trails, addressing unauthorized trails, improving other recreation infrastructure, and thus improve soil and water conditions while also minmizing the potential for conflicts between users, and addressing the risk to forest users.

G. Contribute to the economic vitality of the communities adjacent to the Payette National Forest through improvements to recreational opportunities, timber sales, and other removals of forest products, which also fosters a resilient, adaptive ecosystem to mitigate wildfire risk and strengthen communities.

Proposed Action

The Proposed Action for the Granite Meadows project includes vegetative treatments (commerical, non-commerical, prescribed burning, and associated actions); watershed improvement and restoration treatments; and recreation improvements. Additionally, coordination with existing permittees on grazing programs would occur within the project area to meet the purpose and need of reducing the risk of uncharacteristic and undesirable wildland fire.

Vegetative Treatments

The Forest Service proposes a combination of commercial treatments, non-commerical treatments (NCT) and prescribed burning across the project area. Treatments would be designed to improve wildlife habitat conditions, increase growth rates and tree vigor, improve stand resiliency to natural disturbance, reduce density-related competition, reduce the likelihood of extreme fire behavior in thinned tree stands, and increase potential for firefighter and public safety through reduced fire intensity, if a wildfire should occur. Treatments could occur within the outer portions of some riparian conservation areas (RCAs) where necessary to meet the purpose and need. Treatments would incorporate mitigation measures to address potential effects to soil, water, riparian and aquatic resources. Recurrent application of the necessary treatments (primarily prescribed fire) every 5 to 20 years would maintain the desired condition.

Commercial Vegetative Treatments: Treatments would occur on approximately 25,000 acres and would a incorporate a variety of silvicultural systems, including both intermediate and regneration treatments, depending on stand conditions and species composition. The primary target for commercial treatments are accessible stands where removal of commercial sized trees would aid in achieving one or more of the following: Maintaining or restoring the desired vegetative conditions at the landscape scale; meeting wildland urban interface (WUI) objectives (e.g., supports the development of fire-adapted rural communities and/or reduces the risk of uncharacteristic and undesirable wildland fire); and/or meeting recreation objectives, such as improving skier experience and safety at Brundage Ski Resort.

Non-Commercial Treatments: Non-commercial thinning (NCT) would occur on approximately 75,000 acres and would be completed in areas of commercial harvest as well as outside of commercial harvest. This would consist of trees generally less than ten inches diameter at breast height (DBH). Primary target acres for NCT consist of stands within ½ mile of structures; plantations; high-use recreation areas where vegetation management would maintain or enhance recreation objectives; areas with forest health concerns due to insect and disease; areas with with undesirable competition to early seral species; areas where density related stress/mortality is undesirable; and/or roadside treatments to improve ingress and egress routes.

Prescribed Fire Treatments: Prescribed fire treatments would occur on approximately 83,000 acres. Nearly all of the project area (excluding the Bruin Mountain Reasearch Natural Area and additional areas deemed unsuited or critical) would be considered for prescribed fire over the next 20 years. Commercial activities would generally be completed prior to the application of fire, except where the application of fire prior to thinning does not affect commercial activities. Approximately 500 to 10,000 acres of prescribed fire would be applied annually.

Associated Actions: Activities associated with implementing the above vegetative treaments include road maintenance and use; temporary roads, road relocation, rock pits, brush disposal, site preparation, and planting.

Treatments on Private and State Lands Within the Project Area

Through agreements between the USDA Forest Service, willing private landowners, county governments, and Idaho Department of Lands (i.e., those identified within the project area boundary), treatments would seek to meet the purpose and need for the project and could include non-commercial thinning, prescribed fire, brush disposal, planting and seeding of native vegetation, watershed improvements (e.g., culvert replacements and stream stabilization), and road repair. Actions proposed as part of this project would comply with all laws applicable to management of state and private land. Agreements under the Wyden Authority would not restrict or preclude these land owners from managing or implementing other additional activities on their lands. Funding for activities outside the scope or purpose authorized under the Wyden Authority would have to be funded by other sources.

Watershed Improvement and Restoration Treatments

These activities would include NFS road treatments, unauthorized route treatments, streambank and wetland restoration activities, and fish passage improvements. Road management actions for this project would utilize the McCall and New Meadows Ranger District Travel Analysis recommendations (completed in 2014 and 2015, respectively). Unauthorized routes not needed for future management would also be evaluated for some level of restoration treatment as required by Forest Service Manual 7734.01. and 7734.02. Site-specific streambank and wetland restoration actions would occur in Sater Meadows, Mud Creek, or other areas across the project area where stream channels, wetlands, or riparian areas are in a degraded condition. Actions to improve stream channels, riparian habitat, and wetlands may include: Streambank stabilization, minor channel re-alignment, fence reconstruction, and planting native vegetation. These actions may also include placement of instream or streambank structures such as, but not limited to, rock, large woody debris, beaver dam analogs (BDAs), and barriers to prevent unauthorized motorized travel in sensitive areas. Road-crossing improvements have been identified in the project area to improve fish passage and hydrologic connectivity, including crossings in the Round Valley Creek Little Salmon River subwatershed, the Sixmile Creek Little Salmon River subwatershed, and in the Upper Goose Creek subwatershed.

Recreation Improvements

To meet the purpose and need for the project, recreation improvements would include:

(A) Improving the existing trail system by establishing user-created (unauthorized) trails as system trails where appropriate, converting some roads to trails, and removing user-created trails that negetatively impact watershed and soil health;

(B) replacing or repairing existing facilities, including restrooms and lake amenities;

(C) addressing dispersed recreation issues by enhancing sites, hardening sites, closing some sites, and/or sign installation;

(D) managing roads (including relocation), posting signage and/or considering closure orders (temporary and/or permanent) to address public safety in areas where conflicting use occurs; and

(E) improving skier experience and safety through vegetative treatments within the Brundage Mountain Resort's ski area.

More detailed information on the purpose and need for the project as well as the Proposed Action can be found on the project page of the Payette National Forest website at: http://www.fs.usda.gov/project/?project=54029.

Responsible Official

The Forest Supervisor of the Payette National Forest is the Responsible Official.

Nature of Decision To Be Made

The Responsible Official will decide whether or not, and in what manner, lands within the Granite Meadows project area would be treated to best meet the purpose and need. The decision will be based on a consideration of the environmental effects of implementing the proposed action or alternatives. The Responsible Official may select the proposed action, any alternative analyzed in detail, a modified proposed action or alternative, or no action. If an action alternative is selected, the Responsible Official will determine what design features, mitigation measures and monitoring requirements are included in the decision.

Scoping Process

This notice of intent initiates the scoping process, which helps guide the development of the environmental impact statement. It is important that reviewers provide their comments at such times and in such a manner that they are useful to the Agency's preparation of the environmental impact statement. Therefore, comments should be provided prior to the close of the comment period and should clearly articulate the reviewer's concerns and contentions.

Comments received in response to this solicitation, including names and addresses of those who comment, will be part of the public record for this project. Comments submitted anonymously however will also be accepted and considered; however, anonymous comments will not provide the Agency with the ability to provide the respondent with subsequent information concerning the project.

Dated October 11, 2018.
Allen Rowley,
Acting Associate Deputy Chief, National Forest System.

[FR Doc. 2018-23826 Filed 10-30-18; 8:45 am]

BILLING CODE 3411-15-P